DEPARTMENT OF TRANSPORTATION

Office of the Secretary

49 CFR Part 71

[OST Docket No. OST-2000-8013]

Standard Time Zone Boundary in the State of North Dakota: Denial of Petition to Change Time Zone Boundary

AGENCY: Office of the Secretary, Department of Transportation (DOT).

ACTION: Denial of petition for rulemaking.

SUMMARY: The Chairman of the Board of County Commissioners for Mercer County, North Dakota, petitioned the U.S. Department of Transportation to move Mercer County from the mountain to the central standard time zone. DOT held a hearing in the area and received extensive written public comments. Based on the information in the docket and the strong objections to a change voiced by the vast preponderance of commenters, we are denying the petition.

FOR FURTHER INFORMATION CONTACT: Joanne Petrie, Office of the Assistant General Counsel for Regulation and Enforcement, U.S. Department of Transportation, Room 10424, 400 Seventh Street, SW., Washington, DC 20590, (202) 366-4702.

SUPPLEMENTARY INFORMATION: Under the Standard Time Act of 1918, as amended by the Uniform Time Act of 1966 (15 U.S.C. 260-64), the Secretary of Transportation has authority to issue regulations modifying the boundaries between time zones in the United States in order to move an area from one time zone to another. The standard in the statute for such decisions is “regard for the convenience of commerce and the existing junction points and division points of common carriers engaged in interstate or foreign commerce.”

In a petition dated August 16, 2000, the Chairman of the Mercer County Board of County Commissioners asked the Department to move the county from the mountain time zone to the central time zone. The Commissioners submitted a memorandum outlining why the change would suit “the convenience of commerce.” The petition noted that the issue had been placed on the June 13, 2000, primary election ballot. The results of that election indicated that 1,180 voters favored the change while 1,038 voters opposed the change.

Because of the strong local interest in the proposal, DOT convened a public hearing very early in the process. The hearing took place on September 28, 2000, at the Civic Center in Beulah, ND, and was attended by approximately 100 people. Based on a show of hands conducted several times throughout the evening, approximately one-third of those in attendance supported the change and two-thirds opposed the change. The DOT representative also urged individuals, businesses, and organizations to send written comments to the Department's docket so that all the relevant facts could be collected and considered systematically.

The rulemaking has been extremely controversial in the community. Over 500 written comments were filed in the docket. Some of these comments were petitions signed by hundreds of people. Some people filed more than one comment and signed more than one petition. Even without doing a crosscheck of names, it is clear that the vast majority of people commenting on the issue in this proceeding opposed the proposed change.

Under the Uniform Time Act, as amended, the Secretary of Transportation can only change a time zone boundary if it would suit “the convenience of commerce.” Traditionally, we give great deference to community views on the assumption that the people who would be most affected by a proposed change are in the best position to advise us on the impact.

The proponents of central time made many strong arguments, which generally echoed the points made in the petition. Almost all noted the reliance on goods and services coming from the Bismarck-Mandan area, which is on central time. The closest airport is in Bismarck, most television and newspapers come from Bismarck, and many residents go to the central time zone for work, medical services, and recreation. The coal and energy industry, which is a major employer in the area, is closely tied to central time.

Those favoring the current time observance also made many strong arguments. One of the central themes was that observance of mountain time provides important advantages that make life more convenient, productive, and pleasant.

Many opponents of the change argued that the current time observance affirmatively helps business and is more conducive for farmers. Farmers opposed to the change were concerned about getting replacement parts later in the day and that grain elevators would close an hour earlier. Others anticipated a disruption in the farming day by having to attend to errands or engagements in town that would occur an hour earlier under central time. A number of commenters were concerned that a change would put small, local shops out of business, and negatively impact the overall economic growth of the area. Others noted, and appreciated the fact, that the current observance allows mail delivery one hour earlier.

Some commenters noted that they rely on the local radio station and the two weekly newspapers, rather than on media outlets originating in the central time zone. Others liked the time zone difference because they enjoyed viewing network television broadcasts an hour earlier than they would if the change were made.

Many of the strongest comments argued that the current observance benefits children, education, and family life. Many were concerned about children waiting for buses in the dark on icy, rural roads. Others believed that the current observance was more conducive to learning, after-school supervision of children, and participation in school and community activities.

Many of the proponents of the status quo argued that the current system works well and causes little confusion. Similarly, most appear to believe that a change would inconvenience them personally and make their lives difficult in some way.

Under the law, we are required to balance all the information in the record. Based on the information presented and the overwhelming community sentiment voiced in the record that a change would not “suit the convenience of commerce,” I am hereby denying the petition. The Commission is welcome to file another petition if circumstances change in the future.

Issued in Washington, DC on August 29, 2003.
Rosalind Knapp,
Deputy General Counsel.

[FR Doc. 03-22921 Filed 9-8-03; 8:45 am]

BILLING CODE 4910-62-P